Title 3—

The President

Proclamation 8451 of November 6, 2009

Honoring the Victims of the Tragedy at Fort Hood, Texas

By the President of the United States of America

A Proclamation

Our Nation’s thoughts and prayers are with the service members, civilians, and families affected by the tragic events at Fort Hood, Texas. The brave victims, who risked their lives to protect their fellow countrymen, serve as a constant source of strength and inspiration to all Americans. We ask God to watch over the fallen, the wounded, and all those who are suffering at this difficult hour.

As a mark of respect honoring the victims of the tragedy at Fort Hood, Texas, I hereby order, by the authority vested in me by the Constitution and the laws of the United States of America, that the flag of the United States shall be flown at half-staff at the White House and upon all public buildings and grounds, at all military posts and naval stations, and on all naval vessels of the Federal Government in the District of Columbia and throughout the United States and its Territories and possessions until sunset, Tuesday, November 10, 2009. I also direct that the flag shall be flown at half-staff for the same length of time at all United States embassies, legations, consular offices, and other facilities abroad, including all military facilities and naval vessels and stations.

IN WITNESS WHEREOF, I have hereunto set my hand this sixth day of November, in the year of our Lord two thousand nine, and of the Independence of the United States of America the two hundred and thirty-fourth.

[FR Doc. E9-27364

Filed 11-10-09; 11:15 am]

Billing code 3195-W9-P